DEPARTMENT OF LABOR

Employment and Training Administration

[TA-W-65,226]

Formtek, Inc.; Clinton, ME; Notice of Termination of Investigation

Pursuant to Section 221 of the Trade Act of 1974, as amended, an investigation was initiated on February 11, 2009 in response to a petition filed on behalf of the workers at Formtek, Inc., Clinton, Maine.

The petitioners have requested that the petition be withdrawn. Consequently, the investigation has been terminated.

Signed at Washington, DC, this 18th day of March 2009.
Richard Church,
Certifying Officer, Division of Trade Adjustment Assistance.

[FR Doc. E9-7143 Filed 3-30-09; 8:45 am]

BILLING CODE 4510-FN-P